DEPARTMENT OF AGRICULTURE

Agricultural Marketing Service

[Doc. No. AMS-TM-23-0066]

Notice of Availability of the Final Programmatic Environmental Assessment and Finding of No Significant Impact for AMS Local Meat Capacity Grant Program

AGENCY: Agricultural Marketing Service, USDA.

ACTION: Notice of availability.

SUMMARY: The Agricultural Marketing Service (AMS) announces the availability of the Final Programmatic Environmental Assessment (PEA) and Finding of No Significant Impact (FONSI) for the AMS Local Meat Capacity Grant Program.

FOR FURTHER INFORMATION CONTACT: Betsy Rakola, Associate Deputy Administrator, Transportation and Marketing Program; Telephone: (202) 690-1300; Email: LocalMCap@usda.gov.

SUPPLEMENTARY INFORMATION:

Background

The Final PEA and FONSI analyze and disclose the potential environmental impacts associated with the establishment of the Local Meat Capacity Grant Program (Local MCap). The United States Department of Agriculture (USDA) AMS has proposed to fund grants to support independently owned meat and poultry processing businesses. These grants will help them provide additional and more efficient processing options for local livestock producers by modernizing, increasing, diversifying, and decentralizing meat and poultry processing capacity, including support for rendering.

This program will expand processing capacity for small and midsized meat and poultry processors, which are particularly vulnerable to disruption. It will also increase capacity and promote competition in the meat and poultry processing sector. Based on public input, USDA identified an urgent need to expand and diversify meat and poultry processing capacity.

The Local MCap Program is authorized by section 1001 (b)(4) of the American Rescue Plan Act (ARPA) (Pub. L. 117-2), which funds “loans and grants and other assistance to maintain and improve food and agricultural supply chain resiliency.” Recipients of funding from this proposed program would be allowed 36 months to complete work funded by the grant awards.

The environmental impacts of funding projects to enhance existing meat and poultry processing facilities have been considered in a manner consistent with the provisions of the National Environmental Policy Act (NEPA) of 1969, Public Law 91-190, 42 U.S.C. 4321-4347, as amended.

A Final PEA and FONSI have been prepared, and based on this analysis, AMS has determined there will not be a significant impact to the human environment. As a result, an Environmental Impact Statement (EIS) has not been initiated (40 CFR 1501.6). AMS intends for this PEA to create efficiencies by establishing a framework that can be used for “tiering,” where appropriate, to project-specific actions that require additional analysis. As decisions on specific applications are made, to the extent additional NEPA analysis is required, environmental review will be conducted to supplement the analysis set forth in this PEA.

The Final PEA and FONSI are available for review online at the program website: https://www.ams.usda.gov/services/grants/localmcap.

Comments

AMS published a Draft PEA for public comment on October 31, 2023. The public comment period ended on November 30, 2023. One non-substantive comment was received and is therefore excluded from consideration in the Final PEA and FONSI. Consistent with 40 CFR 1503.4(b), all substantive comments would have received a response. AMS is not required to respond to non-substantive comments. Comments are carefully considered and reviewed; non-substantive comments do not receive a detailed response. A non-substantive comment is categorized as one of the following:

• General comment, opinion, or position statement

• Concern is outside the scope or irrelevant to the proposed action and decision

• Means of addressing the concern are already decided by law, regulation, or policy

• Concern can be better addressed through another decision process (e.g., project level analysis)

• Concern requests action that has already been considered in an alternative

Melissa Bailey,
Associate Administrator, Agricultural Marketing Service.

[FR Doc. 2024-00520 Filed 1-11-24; 8:45 am]

BILLING CODE 3410-02-P